NUCLEAR REGULATORY COMMISSION

[Docket Nos. 50-219; 72-15; 50-293, and 72-1044; NRC-2020-0282]

Holtec Decommissioning International, LLC

AGENCY: Nuclear Regulatory Commission.

ACTION: Exemptions; issuance.

SUMMARY: The U.S. Nuclear Regulatory Commission (NRC) issued two exemptions in response to requests from Holtec Decommissioning International, LLC. The exemptions afford the licensee temporary relief from a certain requirement under NRC regulations. The exemptions are in response to the licensee's requests for relief due to the coronavirus disease 2019 (COVID-19) public health emergency (PHE). The NRC is issuing a single notice to announce the issuance of the exemptions.

DATES: The two exemptions were issued on December 16, 2020, in response to requests submitted by the licensee on November 20, 2020 and supplemented on December 9 and 10, 2020.

ADDRESSES: Please refer to Docket ID NRC-2020-0282 when contacting the NRC about the availability of information regarding this document. You may obtain publicly available information related to this document using any of the following methods:

• Federal Rulemaking Website: Go to https://www.regulations.gov and search for Docket ID NRC-2020-0282. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

For the convenience of the reader, instructions about obtaining materials referenced in this document are provided in the “Availability of Documents” section.

FOR FURTHER INFORMATION CONTACT: Bruce Watson, Office of Nuclear Material Safety and Safeguards, U.S. Nuclear Regulatory Commission, Washington, DC 20555-0001; telephone: 301-415-6221, email: Bruce.Watson@nrc.gov.

SUPPLEMENTARY INFORMATION:

I. Introduction

The NRC issued two exemptions in response to requests from the licensee dated November 20, 2020, and supplemented on December 9 and 10, 2020. The exemptions afford the licensee temporary relief from a certain requirement of part 73 of title 10 of the Code of Federal Regulations (10 CFR), “Physical Protection of Plants and Materials.”

The exemptions from 10 CFR part 73, appendix B, “General Criteria for Security Personnel,” section VI, “Nuclear Power Reactor Training and Qualification Plan for Personnel Performing Security Program Duties,” subsection VI.C.3(I)(1) for Holtec Decommissioning International, LLC (for Oyster Creek Nuclear Generating Station and Pilgrim Nuclear Power Station), will help to ensure that these regulatory requirements do not unduly limit licensee flexibility in using personnel resources in a manner that most effectively manages the impacts of the COVID-19 PHE on maintaining the required security posture at the facilities, while performing decommissioning activities and the implementation of the licensees' NRC approved security plans, protective strategy, and implementing procedures. The licensee has committed to certain security measures to ensure response readiness and for their security personnel to maintain performance capability.

The NRC is periodically providing this compiled listing of related exemptions using a single Federal Register notice for COVID-19 related exemptions, instead of issuing individual Federal Register notices. The compiled listing provides transparency regarding the number of exemptions the NRC is issuing related to a given regulatory requirement. Additionally, the NRC publishes a list of approved licensing actions related to the COVID-19 PHE on its public website at https://www.nrc.gov/about-nrc/covid-19/materials/storage.html and https://www.nrc.gov/about-nrc/covid-19/materials/decommissioning.html.

II. Availability of Documents

The following table provides the facility name, docket number, document description, and ADAMS accession numbers for documents related to each exemption issued. Additional details on each exemption issued, including the exemption request submitted by the respective licensee and the NRC's decision, are provided in each exemption approval listed in the tables. For additional directions on accessing information in ADAMS, see the ADDRESSES section of this document.

Document description | ADAMS accession No.
Holtec Decommissioning International, LLC.
Oyster Creek Nuclear Generating Station
Docket Nos. 50-219 and 72-15
Request for a One-Time Exemption from 10 CFR part 73, appendix B, section VI, subsection C.3.(I)(1) Regarding Annual Force-on-Force (FOF) Exercises, Due to COVID 19 Pandemic | Non-public, withheld under 10 CFR 2.390.
Response to Request for Additional Information on Request for a One-Time Exemption from 10 CFR part 73, appendix B, section VI, subsection C.3.(I)(1) Regarding Annual Force-on-Force (FOF) Exercises, Due to COVID 19 Pandemic, dated December 9, 2020 | ML20345A146.
Oyster Creek Nuclear Generating Station—Exemption from Annual Force-on-Force Exercise Requirement of 10 CFR part 73, appendix B, “General Criteria for Security Personnel,” section VI.C.3.(l)(1), dated December 16, 2020 | ML20345A291.
Holtec Decommissioning International, LLC.
Pilgrim Nuclear Power Station
Docket Nos. 50-293 and 72-1044
Request for a One-Time Exemption from 10 CFR part 73, appendix B, section VI, subsection C.3.(I)(1) Regarding Annual Force-on-Force (FOF) Exercises, Due to COVID 19 Pandemic | Non-public, withheld under 10 CFR 2.390.
Supplemental Information to Support Request for a One-Time Exemption from 10 CFR part 73, appendix B, section VI, subsection C.3.(I)(1) Regarding Annual Force-on-Force (FOF) Exercises, Due to COVID 19 Pandemic, dated December 10, 2020 | ML20345A199.
Pilgrim Nuclear Power Station—Exemption from Annual Force-on-Force Exercise Requirement of 10 CFR part 73, appendix B, “General Criteria for Security Personnel,” section VI.C.3.(l)(1), dated December 16, 2020 | ML20345A324.

Dated: January 5, 2021.
For the Nuclear Regulatory Commission.
Bruce Watson,
Chief, Reactor Decommissioning Branch, Division of Decommissioning, Uranium Recovery and Waste Programs, Office of Nuclear Material Safety and Safeguards.

[FR Doc. 2021-00201 Filed 1-8-21; 8:45 am]

BILLING CODE 7590-01-P